DEPARTMENT OF THE INTERIOR

Bureau of Indian Affairs

Indian Gaming

AGENCY: Bureau of Indian Affairs, Interior.

ACTION: Notice of Approved Tribal-State Class III Gaming Compact taking effect.

SUMMARY: This notice publishes the Approval of the Tribal-State Compact between the State of Montana and the Assiniboine and Sioux Tribes of the Fort Peck Reservation.

DATES: Effective Date: December 28, 2012.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701 et seq., the Secretary of the Interior shall publish in the Federal Register notice of approved Tribal-State compacts for the purpose of engaging in Class III gaming activities on Indian lands. On November 14, 2012, the Assiniboine and Sioux Tribes of the Fort Peck Reservation (Tribe) and the State of Montana (State) submitted a Class III Tribal-State Compact for review and approval. The Compact increases the number of Video Gaming Machines from 76 to 816, and authorizes the operation of additional types of games including live poker and simulcast racing. The term of the Compact runs for 10 years from the date of this notice. The Assistant Secretary—Indian Affairs, Department of the Interior, through his delegated authority, is publishing notice that the Tribal-State Compact between the State of Montana and the Assiniboine and Sioux Tribes of the Fort Peck Reservation is now in effect.

Dated: December 20, 2012.
Kevin K. Washburn,
Assistant Secretary—Indian Affairs.

[FR Doc. 2012-31176 Filed 12-27-12; 8:45 am]

BILLING CODE 4310-4N-P